DEPARTMENT OF COMMERCE

National Oceanic and Atmospheric Administration

[RTID 0648-XE073]

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Tuesday, July 23, 2024, starting at 9:30 a.m. and continue through 1 p.m. on Thursday, July 25, 2024. See SUPPLEMENTARY INFORMATION for agenda details.

ADDRESSES: This will be an in-person meeting with a virtual option. SSC members, other invited meeting participants, and members of the public will have the option to participate in person at the Le Méridien Philadelphia, 1421 Arch St., Philadelphia, PA, or virtually via Webex webinar. Webinar connection instructions and briefing materials will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will make multi-year acceptable biological catch (ABC) recommendations for Golden Tilefish, Black Sea Bass, Butterfish, and Atlantic Surfclam based on the results of the recently completed management track stock assessments and peer review. The SSC will recommend new 2025-27 ABC specifications for Golden Tilefish, new 2025 ABC recommendations for Black Sea Bass, new 2025-26 ABC recommendations for Butterfish, and review existing 2025-26 ABCs and recommend new 2027-28 ABCs for Atlantic Surfclam. The SSC will review the most recent fishery data for Blueline Tilefish and make a 2025 ABC recommendation. The SSC will review the most recent survey and fishery data and the previously recommended 2025 ABC for Bluefish, Summer Flounder, and Scup. The SSC will review and finalize the draft report developed by an SSC sub-group to address the Terms of Reference regarding the Recreational Measures Setting Framework/Addenda. The SSC will also receive the results of updated Surfclam genetics research. The SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: July 2, 2024.
Rey Israel Marquez,
Acting Deputy Director, Office of Sustainable Fisheries, National Marine Fisheries Service.

[FR Doc. 2024-14934 Filed 7-5-24; 8:45 am]

BILLING CODE 3510-22-P